DEPARTMENT OF TRANSPORTATION

Research and Special Programs Administration Office of Hazardous Materials Safety; Notice of Applications for Modification of Exemption

AGENCY: Research and Special Programs Administration, DOT.

ACTION: List of applications for modification of exemptions.

SUMMARY: In accordance with the procedures governing the application for, and the processing of, exemptions from the Department of Transportation's Hazardous Materials Regulations (49 CFR Part 107, Subpart B), notice is hereby given that the Office of Hazardous Materials Safety has received the applications described herein. This notice is abbreviated to expedite docketing and public notice. Because the sections affected, modes of transportation, and the nature of application have been shown in earlier Federal Register publications, they are not repeated here. Requests for modifications of exemptions (e.g., to provide for additional hazardous materials, packaging design changes, additional mode of transportation, etc.) are described in footnotes to the application number. Application numbers with the suffix “M” denote a modification request. These applications have been separated from the new applications for exemptions to facilitate processing.

DATES: Comments must be received on or before August 9, 2000.

ADDRESS COMMENTS TO: Records Center, Research and Special Programs Administration, U.S. Department of Transportation, Washington, DC 20590.

Comments should refer to the application number and be submitted in triplicate. If confirmation of receipt of comments is desired, include a self-addressed stamped postcard showing the exemption number.

FOR FURTHER INFORMATION: Copies of the applications are available for inspection in the Records Center, Nassif Building, 400 7th Street SW, Washington, DC or at http://dms.dot.gov.

This notice of receipt of applications for modification of exemptions is published in accordance with Part 107 of the Federal hazardous materials transportation law (49 U.S.C. 5117(b); 49 CFR 1.53(b)).

Issued in Washington, DC, on July 19, 2000.
R. Ryan Posten,
Exemptions Program Officer, Officer of Hazardous Materials; Exemptions and Approvals.

Application number | Docket number | Applicant | Modification of exemption
3187-M |  | PPG Industries, Inc., Pittsburgh, PA (See Footnote 1) | 3187
11506-M |  | OEA Inc., Denver, CO (See Footnote 2) | 11506
12301-M | RSPA-1999-5903 | Steptoe & Johnson LLP, Washington, DC (See Footnote 3) | 12301
(1) To authorize alternative packaging and the use of common carriers in exclusive use for the transportation of Division 5.2 materials.
(2) To modify the exemption to authorize a design change using a welded flange and laser etching on the exterior of non-DOT specification pressure vessels for use as components of automobile vehicle safety systems.
(3) To modify the exemption to waive the marking requirements so that shipping papers and cylinders do not have to bear the DOT exemption number.

[FR Doc. 00-18778 Filed 7-24-00; 8:45 am]

BILLING CODE 4910-60-M